DEPARTMENT OF THE TREASURY

Internal Revenue Service

26 CFR Part 301

[REG-148521-04]

RIN 1545-BD77

Classification of Certain Foreign Entities; Hearing Cancellation

AGENCY: Internal Revenue Service (IRS), Treasury.

ACTION: Cancellation of notice of public hearing on proposed rulemaking.

SUMMARY: This document cancels a public hearing on proposed regulation relating to certain business entities included on the list of foreign business entities that are always classified as corporations for Federal tax purposes.

DATES: The public hearing, originally scheduled for July 27, 2005, at 10 a.m., is cancelled.

FOR FURTHER INFORMATION CONTACT: Richard A. Hurst of the Publications and Regulations Branch, Legal Processing Division, Associate Chief Counsel (Procedure and Administration), at (202) 622-7180 (not a toll-free number).

SUPPLEMENTARY INFORMATION: A notice of proposed rulemaking and notice of public hearing that appeared in the Federal Register on Thursday, April 14, 2005, (70 FR 19722), announced that a public hearing was scheduled for July 27, 2005, at 10 a.m., in the IRS Auditorium, Internal Revenue Service Building, 1111 Constitution Avenue, NW., Washington, DC. The subject of the public hearing is under section 7701 of the Internal Revenue Code.

The public comment period for these regulations expired on July 13, 2005. The outlines of oral comments were due on July 6, 2005. The notice of proposed rulemaking and notice of public hearing, instructed those interested in testifying at the public hearing to submit a request to speak and an outline of the topics to be addressed. As of Wednesday, July 13, 2005, no one has requested to speak. Therefore, the public hearing scheduled for July 27, 2005, is cancelled.

Cynthia Grigsby,
Acting Chief, Publications and Regulations Branch, Legal Processing Division, Associate Chief Counsel (Procedure and Administration).

[FR Doc. 05-14083 Filed 7-15-05; 8:45 am]

BILLING CODE 4830-01-P